GENERAL SERVICES ADMINISTRATION

[BCA 2006-N01]

Board of Contract Appeals; The Establishment of The Civilian Board of Contract Appeals and the Termination of The Boards of Contract Appeals of the General Services Administration and the Departments of Agriculture, Energy, Housing and Urban Development, Interior, Labor, Transportation, and Veterans Affairs

AGENCY: General Services Administration (GSA), Board of Contract Appeals.

ACTION: Notice.

SUMMARY: In section 847 of the National Defense Authorization Act for Fiscal Year 2006, Pub. L. No. 109-163, Congress established the Civilian Board of Contract Appeals (CBCA) within GSA to hear and decide contract disputes involving executive agencies (other than the Department of Defense, the Department of the Army, the Department of the Navy, the Department of the Air Force, the National Aeronautics and Space Administration, the United States Postal Service, the Postal Rate Commission, and the Tennessee Valley Authority) under the provisions of the Contract Disputes Act of 1978 and regulations and rules issued thereunder. Boards of contract appeals currently exist at the General Services Administration and the departments of Agriculture, Energy, Housing and Urban Development, Interior, Labor, Transportation, and Veterans Affairs. Effective January 6, 2007, all of those boards in existence on that date will terminate, and their cases, Board judges, and other personnel will transfer to the new Civilian Board.

SUPPLEMENTARY INFORMATION: The legislation establishing the Civilian Board provides that the CBCA will have jurisdiction to decide contract appeals from any executive agency (other than the Department of Defense, the Department of the Army, the Department of the Navy, the Department of the Air Force, the National Aeronautics and Space Administration, the United States Postal Service, the Postal Rate Commission, and the Tennessee Valley Authority). Cases currently before a board of contract appeals affected by the legislation will be transferred to the Civilian Board on January 6, 2007, and reassigned CBCA docket numbers. Agency acquisition personnel should review agency regulations, contract provisions, and language in contracting officer decision letters that may refer contractors to one of the affected boards of contract appeals for dispute resolution, including alternative dispute resolution, and modify those provisions accordingly.

The Civilian Board will also conduct other proceedings as required or permitted under statutes or regulations. Such other proceedings include the resolution of disputes involving grants and contracts under the Indian Self-Determination and Education Assistance Act, 25 U.S.C. 450 et seq. Because jurisdiction over these disputes is vested by statute, 25 U.S.C. 450m-1(d), in the Department of the Interior Board of Contract Appeals, section 847(e) of the National Defense Authorization Act for Fiscal Year 2006 reassigns that jurisdiction to the Civilian Board of Contract Appeals.

Such other proceedings also include the resolution of disputes between insurance companies and the Department of Agriculture's Risk Management Agency (RMA) involving actions of the Federal Crop Insurance Corporation (FCIC) pursuant to the Federal Crop Insurance Act, 7 U.S.C. 1501 et seq. These disputes were formerly resolved by the Department of Agriculture Board of Contract Appeals, and it is anticipated that this authority will be transferred to the Civilian Board of Contract Appeals under an agreement with the Secretary of Agriculture, as permitted under section 42(c)(2) of the Office of Federal Procurement Policy Act, 41 U.S.C. 438(c)(2).

In addition, other proceedings that the Civilian Board will conduct include several types of cases heard by the General Services Board of Contract Appeals by delegation from the Administrator of General Services. It is anticipated that, effective January 6, 2007, the Administrator of General Services will redelegate those cases to the Civilian Board of Contract Appeals. Those cases include the following:

— Pursuant to 31 U.S.C. 3726(i)(1), requests by carriers or freight forwarders to review actions taken by the Audit Division of the General Services Administration's Office of Transportation and Property Management.

— Pursuant to 31 U.S.C. 3702, claims by Federal civilian employees against the United States for reimbursement of (1) expenses incurred while on official temporary duty travel and (2) expenses incurred in connection with relocation to a new duty station.

— Pursuant to section 204 of the General Accounting Office Act of 1996, Pub. L. 104-316, requests of agency disbursing or certifying officials, or agency heads, on questions involving payment of travel or relocation expenses that were formerly considered by the Comptroller General under 31 U.S.C. 3529.

The offices of the Civilian Board of Contact Appeals will be located at 1800 M Street, NW, 6th Floor, Washington, DC 20036. The mailing address of the Civilian Board will be 1800 F Street, NW, Washington, DC 20405. The phone number of the Office of the Clerk of the Board will be (202) 606-8800; the facsimile number will be (202) 606-0019. The internet address of the Civilian Board's Web site will be www.cbca.gsa.gov.

FOR FURTHER INFORMATION CONTACT Margaret S. Pfunder, Chief Counsel, GSA Board of Contract Appeals, telephone (202) 501-0272, internet address margaret.pfunder@gsa.gov.

Dated: November 2, 2006.
Stephen M. Daniels,
Chairman, Board of Contract Appeals, General Services Administration.

[FR Doc. E6-18982 Filed 11-8-06; 8:45 am]

BILLING CODE 6820-AL-S